DEPARTMENT OF COMMERCE

National Oceanic and Atmospheric Administration

Availability of Seats for the Florida Keys National Marine Sanctuary Advisory Council

AGENCY: National Marine Sanctuary Program (NMSP), National Ocean Service (NOS), National Oceanic and Atmospheric Administration, Department of Commerce (DOC).

ACTION: Notice and request for applications.

SUMMARY: The Florida Keys National Marine Sanctuary (FKNMS or Sanctuary) is seeking applicants for the following vacant primary and alternate seats for its Sanctuary Advisory Council (Council): Diving Upper Keys and Diving Lower Keys, Recreational Fisherperson, Citizen at Large Upper Keys and Citizen at Large Middle Keys, Conservation and Environment, Boating Industry, and Commercial Fishing—Shell/Scale. Alternates represent members of the Council at meetings for which the members cannot be present. Applicants are chosen based upon their particular expertise and experience in relation to the seat for which they are applying; community and professional affiliations; philosophy regarding the conservation and management of marine resources; and the length of residence in the area affected by the Sanctuary. Applicants who are chosen as members should expect to serve two year terms, pursuant to the Council's charter.

DATES: Applications are due by October 13, 2000.

ADDRESSES: Application kits may be obtained from June Cradick, Florida Keys National Marine Sanctuary, Post Office Box 500368, Marathon, FL 33050, or online at: http://www.fknms.nos.noaa.gov/sac/welcome.html. Completed applications should be sent to the same address.

FOR FURTHER INFORMATION CONTACT: June Cradick at (305) 743-2437 x24, or june.cradick@noaa.gov, or visit the web site at: http://www.fknms.nos.noaa.gov/sac/welcome.html.

SUPPLEMENTARY INFORMATION: The FKNMS Advisory Council functions in an advisory capacity to the Sanctuary Superintendent The Council works in concert with the Sanctuary Superintendent by keeping him informed about issues of concern throughout the Sanctuary, offering recommendations on specific issues, and aiding the Superintendent in achieving the goals of the Sanctuary program. Specifically, the Council's objectives are to provide advice on: (1) Protecting natural and cultural resources, and identifying and evaluating emergent or critical issues involving Sanctuary use or resources; (2) Identifying and realizing the Sanctuary's research objectives; (3) Identifying and realizing educational opportunities to increase the public knowledge and stewardship of the Sanctuary environment; and (4) Assisting to develop an informed constituency to increase awareness and understanding of the purpose and value of the Sanctuary and the National Marine Sanctuary Program.

Authority: 16 U.S.C. Section 1431 et seq.

Dated: September 18, 2000.
Margaret A. Davidson,
Acting Assistant Administrator for Ocean Services and Coastal Zone Management.

[FR Doc. 00-24282 Filed 9-20-00; 8:45 am]

BILLING CODE 3510-08-M